COMMISSION ON CIVIL RIGHTS

Agenda and Notice of Public Meeting of the Connecticut Advisory Committee

Notice is hereby given, pursuant to the provisions of the rules and regulations of the U.S. Commission on Civil Rights and the Federal Advisory Committee Act, that a briefing meeting and planning meeting of the Connecticut State Advisory Committee will convene at 9:30 a.m. on Tuesday, April 13, 2010 in a Hearing Group Room 2C, located in the Legislative Building, 210 Capitol Ave., in Hartford, Connecticut. The purpose of the meeting is to hear from education experts and advocates about school choice, high school attainment rates, and civil rights.

Members of the public are entitled to submit written comments; the comments must be received in the regional office by May 13, 2010. The address is Eastern Regional Office, 624 9th St., NW., Washington, DC 20425. Persons wishing to e-mail their comments, or who desire additional information should contact the Eastern Regional Office at 202-376-7533 or by e-mail to: ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, April 5, 2010.
Peter Minarik,
Acting Chief, Regional Programs Coordination Unit.

[FR Doc. 2010-7997 Filed 4-7-10; 8:45 am]

BILLING CODE 6335-01-P